DEPARTMENT OF ENERGY

Federal Energy Regulatory Commission

[Project No. 2928-007]

Merrimac Paper Company, Inc.; Notice of Termination of License by Implied Surrender and Soliciting Comments and Motions To Intervene

Take notice that the following hydroelectric proceeding has been initiated by the Commission:

a. Type of Proceeding: Termination of License by Implied Surrender.

b. Project No.: 2928-007.

c. Date Initiated: January 06, 2012.

d. Licensee: Merrimac Paper Company, Inc.

e. Name and Location of Project: The Merrimac Hydroelectric Project is located on the Merrimack River, a navigable waterway in the United States, in the city of Lawrence, Essex County, Massachusetts.

f. Proceeding Initiated Pursuant to: Standard Article 17 of the project's license and 18 CFR 6.4 (2011).

g. Licensee Contact Information: Ms. Terri Bechta, 9 South Canal Street, Lawrence, MA 01843-1410; phone (617) 686-0342.

h. FERC Contact: Krista Sakallaris, (202) 502-6302.

i. Deadline for filing comments, protests, and motions to intervene is 30 days from the issuance date of this notice. All documents may be filed electronically via the Internet in lieu of paper. See 18 CFR 385.2001(a)(1)(iii) and the instructions on the Commission's Web site at http://www.ferc.gov/docs-filing/efiling.asp. The Commission strongly encourages electronic filings. If unable to be filed electronically, documents may be paper-filed. To paper-file, an original and seven copies should be sent to: The Secretary, Federal Energy Regulatory Commission, 888 First Street NE., Washington, DC 20426. Commenters can submit brief comments up to 6,000 characters, without prior registration, using the eComment system at http://www.ferc.gov/docs-filing/ecomment.asp. You must include your name and contact information at the end of your comments. Please include the project number (P-2928-007) on any documents or motions filed.

j. Description of Existing Facilities: (1) Unit No. 1: (i) A 6.5-foot-high by 6.0-foot wide head gate and trashrack structure; (ii) a 260-foot-long, 5-foot-diameter penstock connected to; (iii) a generating unit with an installed capacity of 200kW; (iv) an 18-foot-long tailrace canal; and (v) other appurtenances; (2) Unit No. 2: (i) A 6.5-foot-high by 6.0-foot-wide head gate and trashrack structure; (ii) a 288-foot-long, 5.3-foot-diameter penstock connected to; (iii) a generating unit with an installed capacity of 450kW; (iv) a 15-foot-long tailrace canal; and (v) other appurtenances; (3) Unit No. 3: (i) A 6.5-foot-high by 6.0-foot wide head gate and trashrack and other appurtenances; (ii) a 250-foot-long, 8.75-foot-diameter penstock connected to; (iii) a generating unit with an installed capacity of 600kW; (iv) a 80-foot-long tailrace canal; and (v) other appurtenances.

k. Description of Proceeding: The licensee is currently in violation of standard Article 17 of its license, granted on March 1, 2001 and section 6.4 of the Commission's regulations, which state that it is deemed to be the intent of a licensee to surrender its license, if it abandons a project for a period of three years. The project has not operated since June of 2005. During a 2007 inspection, staff was unable to gain access to the project and confirmed it was non-operational. On October 6, 2011, Commission staff sent the licensee a letter concerning the non-operating status of the project. To date the licensee has failed to respond and the project remains inoperative. By not operating the project as proposed and authorized, the licensee is in violation of the terms and conditions of the license.

l. This notice is available for review and reproduction at the Commission in the Public Reference Room, Room 2A, 888 First Street NE., Washington, DC 20426. The filing may also be viewed on the Commission's Web site at http://www.ferc.gov/docs-filing/elibrary.asp. Enter the Docket number (P-2928) in the docket number field to access the notice. You may also register online at http://www.ferc.gov/docs-filing/esubscription.asp to be notified via email of new filings and issuances related to this or other pending projects. For assistance, call toll-free 1-(866) 208-3676 or email FERCOnlineSupport@ferc.gov. For TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular proceeding.

o. Filing and Service of Responsive Documents—Any filing must: (1) Bear in all capital letters the title “COMMENTS”, “PROTEST”, or “MOTION TO INTERVENE,” as applicable; (2) set forth in the heading the project number of the proceeding to which the filing responds; (3) furnish the name, address, and telephone number of the person commenting, protesting or intervening; and (4) otherwise comply with the requirements of 18 CFR 385.2001 through 385.2005. All comments, protests or motions to intervene must set forth their evidentiary basis and otherwise comply with the requirements of 18 CFR 4.34(b). All comments, protests, or motions to intervene should relate to project works, which are the subject of the termination of license. A copy of any protest or motion to intervene must be served upon each representative of the licensee specified in item g above. If an intervener files comments or documents with the Commission relating to the merits of an issue that may affect the responsibilities of a particular resource agency, they must also serve a copy of the document on that resource agency. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: January 6, 2012.
Kimberly D. Bose,
Secretary.

[FR Doc. 2012-511 Filed 1-12-12; 8:45 am]

BILLING CODE 6717-01-P